INTERNATIONAL TRADE COMMISSION

[Investigation No. TA-201-73]

Steel

AGENCY: United States International Trade Commission.

ACTION: Consolidation of Senate Finance Committee Resolution requesting a section 201 investigation with the investigation requested by the United States Trade Representative on June 22, 2001.

SUMMARY: On July 26, 2001, the Commission received a resolution adopted by the Committee on Finance of the United States Senate requesting that the Commission investigate certain steel imports under Section 201 of the Trade Act of 1974 (19 U.S.C. 2251). The resolution provides that the Committee shall promptly investigate whether certain steel products are being imported into the United States in such increased quantities as to be a substantial cause of serious injury, or the threat thereof, to each of the domestic industries identified in the resolution as manufacturing products that are like or directly competitive with the imported products. In its resolution, the Senate Finance Committee refers to the Commission's ongoing investigation No. TA-201-73, which was instituted June 22, 2001, following receipt of a request from the Office of the U.S. Trade Representative.

The Committee does not request a second investigation, a change in the scope of the present investigation, or any change in Commission procedures with respect to the current investigation. Instead, the Committee in Section 4 of the resolution states that, “in order to avoid hindering the important progress already made in the International Trade Commission's ongoing global safeguard investigation of certain steel products, the Commission is instructed to exercise its authority under section 603 of the Trade Act of 1974 to consolidate the investigation requested in this resolution with the investigation requested by the United States Trade Representative on June 22, 2001, in a manner that does not alter or delay the investigation schedule established pursuant to the earlier request.”

Consistent with the Senate Finance Committee's resolution, we are consolidating the investigation requested by the Committee with the Commission's previously-instituted investigation No. TA-201-73.

For further information concerning the conduct of this investigation, hearing procedures, and rules of general application, consult the Commission's Rules of Practice and Procedure, part 201, subparts A through E (19 CFR part 201), and part 206, subparts A and B (19 CFR part 206).

EFFECTIVE DATE: July 26, 2001.

FOR FURTHER INFORMATION CONTACT: Vera Libeau (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

Issued: August 16, 2001.
By order of the Commission.
Donna R. Koehnke,
Secretary.

[FR Doc. 01-21122 Filed 8-21-01; 8:45 am]

BILLING CODE 7020-02-U